NUCLEAR REGULATORY COMMISSION

Sunshine Act Meeting Notice

Agency Holding the Meetings: Nuclear Regulatory Commission.

Dates: Weeks of April 2, 9, 16, 23, 30, May 7, 2007.

Place: Commissioners' Conference Room, 11555 Rockville Pike, Rockville, Maryland.

Status: Public and Closed.

Matters to be Considered:

Week of April 2, 2007

There are no meetings scheduled for the Week of April 2, 2007.

Week of April 9, 2007—Tentative

There are no meetings scheduled for the Week of April 9, 2007.

Week of April 16, 2007—Tentative

Monday, April 16, 2007

1:30 p.m. Discussion of Security Issues (Closed—Ex. 1, 2, & 3).

Tuesday, April 17, 2007

9 a.m. Briefing on New Reactor Issues—Environmental Issues (Public Meeting) (Contact: James Lyons, (301) 415-3050).

This meeting will be Webcast live at the Web address— http://www.nrc.gov.

12:55 p.m. Affirmation Session (Public Meeting) (Tentative) a. Entergy Nuclear Vermont Yankee, LLC, and Entergy Nuclear Operations, Inc. (Vermont Yankee Nuclear Power Station) Docket No. 50-271-LR, LBP-06-20, 64 NRC 131, 175-82 (2006) (Tentative).

1 p.m. Briefing on Office of Nuclear Regulatory Research (RES) Programs, Performance, and Plans (Public Meeting). (Contact: Ann Ramey-Smith, (301) 415-6877).

This meeting will be Webcast live at the Web address— http://www.nrc.gov.

Week of April 23, 2007—Tentative

There are no meetings scheduled for the Week of April 23, 2007.

Week of April 30, 2007—Tentative

There are no meetings scheduled for the Week of April 30, 2007.

Week of May 7, 2007—Tentative

Monday, May 7, 2007

1:30 p.m. Briefing on Office of Federal and State Materials and Environmental Management Programs (FSME) Programs, Performance, and Plans (Public Meeting).

This meeting will be Webcast live at the Web address— http://www.nrc.gov.

* * * * *

The schedule for Commission meetings is subject to change on short notice. To verify the status of meetings call (recording)—(301) 415-1292. Contact person for more information: Michelle Schroll, (301) 415-1662.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: March 28, 2007.
R. Michelle Schroll,
Office of the Secretary.

[FR Doc. 07-1625 Filed 3-29-07; 11:35 am]

BILLING CODE 7590-01-P